DEPARTMENT OF TRANSPORTATION

Pipeline and Hazardous Materials Safety Administration

International Standards on the Transport of Dangerous Goods; Public Meeting

AGENCY: Pipeline and Hazardous Materials Safety Administration (PHMSA), Department of Transportation.

ACTION: Notice of public meeting.

SUMMARY: This notice is to advise interested persons that PHMSA will conduct a public meeting in preparation for the 38th session of the United Nations Sub-Committee of Experts on the Transport of Dangerous Goods (UNSCOE TDG) to be held November 29-December 7, 2010, in Geneva, Switzerland. During this meeting, PHMSA is also soliciting comments relative to potential new work items which may be considered for inclusion in its international agenda.

Information Regarding the UNSCOE TDG Meeting

DATES: Wednesday, November 17, 2010; 1 p.m.-3:30 p.m.

ADDRESSES: The meeting will be held at the DOT Headquarters, West Building, Conference Rooms 8, 9 and 10, 1200 New Jersey Avenue, SE., Washington, DC 20590.

Notification: Any person wishing to participate in the public meeting should send an e-mail to michael.stevens@dot.gov and include their name and contact information (Organization/Address/Telephone Number) no later than November 10, 2010. Providing this information will facilitate the security screening process for entry into the building on the day of the meeting.

Conference Call Capability/Live Meeting Information: Conference call-in and “live meeting” capability will be provided for this meeting. Specific information on call-in and live meeting access will be posted when available at http://www.phmsa.dot.gov/hazmat/regs/international.

FOR FURTHER INFORMATION CONTACT: Mr. Duane Pfund, Acting Director, Office of Hazardous Materials Technology or Mr. Shane Kelley, International Transportation Specialist, Office of Hazardous Materials Safety, Department of Transportation, Washington, DC 20590; (202) 366-0656.

SUPPLEMENTARY INFORMATION: The primary purpose of this meeting will be to prepare for the 38th session of the UNSCOE TDG. The 38th session of the UNSCOE TDG is the last of four meetings scheduled for the current 2009-2010 biennium. The UNSCOE will consider proposals for the 17th Revised Edition of the United Nations Recommendations on the Transport of Dangerous Goods Model Regulations which will come into force in the international regulations from January 1, 2013. Topics on the agenda for the UNSCOE TDG meeting include:

• Recommendations made by the Sub-Committee at previous sessions.

• Explosives and related matters.

• Listing, classification and packing.

• Electric storage systems.

• Electronic data interchange (EDI) for documentation purposes.

• Cooperation with the International Atomic Energy Agency (IAEA).

• Global harmonization of transport of dangerous goods regulations.

• Guiding principles for the Model Regulations.

• Globally Harmonized System of Classification and Labeling of Chemicals (GHS).

• Program of work for the biennium 2011-2012.

In addition, PHMSA is soliciting comments on how to further enhance harmonization for international transport of hazardous materials. PHMSA has finalized a broad international strategic plan and welcomes input on items which stakeholders believe should be included as specific initiatives within this plan. PHMSA's Office of International Standards Strategic Plan can be accessed at: http://www.phmsa.dot.gov/hazmat/regs/international.

The public is invited to attend without prior notification. Due to the heightened security measures participants are encouraged to arrive early to allow time for security checks necessary to obtain access to the building. Following the 38th session of the UNSCOE TDG, PHMSA will place a copy of the Sub-Committee's report and a summary of the results on PHMSA's Hazardous Materials Safety Homepage at http://www.phmsa.dot.gov/hazmat/regs/international.

Documents

Copies of documents for the UNSCOE TDG meeting and the meeting agenda may be obtained by downloading them from the United Nations Transport Division's Web site at: http://www.unece.org/trans/main/dgdb/dgsubc/c32010.html. PHMSA's site at http://www.phmsa.dot.gov/hazmat/regs/international also provides additional information regarding the UNSCOE TDG and related matters such as summaries of decisions taken at previous sessions of the UNSCOE TDG.

Issued in Washington, DC, on October 6, 2010.
Magdy El-Sibaie,
Associate Administrator for Hazardous Materials Safety.

[FR Doc. 2010-25913 Filed 10-14-10; 8:45 am]

BILLING CODE 4910-60-P